POSTAL SERVICE

Privacy Act; System of Records

AGENCY: Postal Service®.

ACTION: Notice of a modified system of records; response to comments.

SUMMARY: The United States Postal Service® (USPS®) is responding to public comments regarding revisions to a General Privacy Act Systems of Records (SOR). These revisions were made to support an initiative sponsored by the United States Postal Inspection Service® (USPIS®) to conduct link analysis for investigative purposes. There will be no changes to the system of records or the effective date of January 18, 2022, in light of public comments received.

DATES: The revisions to USPS SOR 700.000, Inspection Service Investigative File System, Document Citation 86 FR 71679, were originally scheduled to be effective on January 18, 2022, without further notice. After review and evaluation of comments received, the Postal Service has found that no substantive changes to the system of records are required, and that the effective date for the implementation of the proposed revisions should proceed as scheduled.

FOR FURTHER INFORMATION CONTACT: Janine Castorina, Chief Privacy and Records Management Officer, Privacy and Records Management Office, 202-268-3069 or privacy@usps.gov.

SUPPLEMENTARY INFORMATION: On December 17, 2021, the Postal Service published notice of its intent to modify an existing system of records, USPS SOR 700.000, Inspection Service Investigative File System, to support the USPIS sponsored initiative to conduct link analysis for investigative purposes.

The United States Postal Inspection Service (USPIS) is focused on continuous improvement in the effort to stay one-step ahead of bad actors and to preserve the sanctity of the mail. To further this objective, USPIS is implementing a process to conduct a link analysis across multiple disparate Postal systems to aggregate data and increase efficiency. This process will automate the analysis process in part, reducing manual effort by Postal Inspectors and Inspection Service analysts.

The Postal Service provides the following responses to the comments received pursuant to its Federal Register notice 86 FR 71679, regarding proposed modifications to USPS SOR 700.000, Inspection Service Investigative File System.

1. Question 1: ¹ The Inspection Service's (USPIS) System of Record adjustments allowing for the to conduct link analysis for I 1nvestigative purposes is outside of USPIS's jurisdiction.

Answer: Leveraging new technology to link data and more effectively process investigative data is well within the authority of the United States Postal Inspection Service (USPIS). Title 18 U.S.C. 3061 specifically grants USPIS the authority to investigate criminal matters related to the Postal Service, its products, services, infrastructure, employees, and the mail. The powers granted in this section are put into effect in the enforcement of laws regarding property in the custody of the Postal Service, property of the Postal Service, the use of the mails and other postal offenses. With respect to such property, Postal Inspectors are empowered to conduct investigations, on and off the property in question, of offenses that may have been committed against property owned or occupied by the Postal Service or persons on the property. Processing data more effectively, falls squarely within USPIS's authority.

2. Question 2: ² The Inspection Service's (USPIS) System of Record adjustments allowing for the to conduct link analysis for investigative purposes will allow USPIS to conduct surveillance on customers.

Answer: Law enforcement agencies have an increased need to manage data in a more secure, efficient, and effective manner, while remaining true to necessary legal and regulatory requirements. The USPIS will utilize a flexible, investigative intelligence platform that uses a data model to drive the discovery of associated data. Such a platform would fuse previously disconnected paradigms such as business intelligence, dashboard, link analysis, content search, and operational monitoring, across USPIS's network. Streamlining investigative and analytical procedures is not surveillance.

3. Question 3: ³ The Inspection Service's (USPIS) System of Record adjustments allowing for the to conduct link analysis for investigative purposes increases access and therefore privacy risk.

Answer: Law enforcement agencies have an increased need to manage data in a more secure, efficient, and effective manner, while remaining true to necessary legal and regulatory requirements. Streamlining investigative and analytical procedures does not increase access to data. However, should USPIS decide to increase access to data, such a decision falls within USPIS's clear mandate to investigate criminal matters related to the Postal Service, its products, services, infrastructure, employees, and the mail. Regardless, USPIS implements information security standards in accordance with the USPS Chief Information Security Office and applies increased security controls where necessary. USPIS takes its responsibility to safeguard its investigative data seriously and takes significant measures to protect such data.

Footnotes

¹ In response to implied question contained in comments submitted by The Electronic Privacy Information Center, Section II, entitled “The Postal Inspection Service is at serious risk of mission creep when the agency expands information collection and investigations beyond traditional postal crimes.”

² In response to implied question contained in comments submitted by The Electronic Privacy Information Center, Section III, entitled “The Postal Inspection Service is seeking to expand its system of records to include data from USPS customers who have done nothing to warrant law enforcement surveillance.”

³ In response to implied question contained in comments submitted by The Electronic Privacy Information Center, Section IV, entitled “Increased access to customer data poses privacy risks for customers of the Postal Service.”

Sarah E. Sullivan,
Attorney, Ethics and Legal Compliance.

[FR Doc. 2022-08566 Filed 4-21-22; 8:45 am]

BILLING CODE 7710-12-P